DEPARTMENT OF COMMERCE

International Trade Administration

[A-570-848]

Notice of Extension of Time Limit for Final Results of New Shipper Antidumping Review: Freshwater Crawfish Tail Meat From the People's Republic of China

AGENCY: Import Administration, International Trade Administration, Department of Commerce.

EFFECTIVE DATE: June 28, 2000.

FOR FURTHER INFORMATION CONTACT: Sarah Ellerman or Maureen Flannery, Import Administration, International Trade Administration, U.S. Department of Commerce, 14th Street and Constitution Avenue, NW, Washington, DC 20230; telephone: (202) 482-4106 and (202) 482-3020, respectively.

Time Limits

Statutory Time Limits

Section 751(a)(2)(B)(iv) of the Tariff Act of 1930, as amended (the Act), requires the Department to make a preliminary determination within 180 days after the date on which the review is initiated, and a final determination within 90 days after the date the preliminary determination is issued. However, if the Department concludes that the case is extraordinarily complicated, section 751(a)(2)(B)(iv) of the Act allows the Department to extend the time limit for the preliminary determination from 180 days to 300 days and may extend the time limit for the final determination from 90 days to 150 days from the date of publication of the preliminary determination.

Background

On March 30, 1999, the Department received a request from Yancheng Haiteng Aquatic Products & Foods Co., Ltd. to conduct a new shipper review of the antidumping duty order on freshwater crawfish tail meat from the People's Republic of China. On May 6, 1999, the Department published its initiation of this new shipper review covering the period September 1, 1998 through February 28, 1999 (64 FR 24328). On March 15, 2000, the Department published the preliminary results of review (65 FR 13939). On May 1, 2000, the Department extended the time limits for the final results of this new shipper review (65 FR 25309).

Extension of Time Limits for Final Results

Because of the complexities described in the Memorandum from Edward C. Yang to Joseph A. Spetrini, Extension of Time Limit for the Final Results of New Shipper Review of Freshwater Crawfish Tail Meat from the People's Republic of China, dated June 19, 2000, we find that this case is extraordinarily complicated and we are unable to complete this review within the time limits mandated by section 351.214(i)(2) of the Department's regulations.

Therefore, in accordance with section 351.214(i)(2) of the Department's regulations, the Department is extending the time period for issuing the final results of review until July 14, 2000.

Dated: June 19, 2000.
Edward C. Yang,
Acting Deputy Assistant Secretary, AD/CVD Enforcement Group III.

[FR Doc. 00-16381 Filed 6-27-00; 8:45 am]

BILLING CODE 3510-DS-P